DEPARTMENT OF TRANSPORTATION

Federal Aviation Administration

14 CFR Part 21

[Docket No.: FAA-2024-0159; Notice No. 24-10]

RIN 2120-AL87

Disclosure of Safety Critical Information; Extension of Comment Period

AGENCY: Federal Aviation Administration (FAA), Department of Transportation (DOT).

ACTION: Notice of proposed rulemaking (NPRM); Extension of comment period.

SUMMARY: This action extends the comment period for the NPRM titled “Disclosure of Safety Critical Information” that was published on January 25, 2024. In that document, the FAA proposed the implementation of certain mandates in the Aircraft Certification, Safety, and Accountability Act of 2020 by requiring applicants for, and holders of, new and amended transport category airplane type certificates to submit, and subsequently continue to disclose, certain safety critical information to the FAA. The FAA also proposed a requirement for all applicants for type certificates, including new, amended, and supplemental type certificates, to submit a proposed certification plan to the FAA. The FAA is extending the comment period closing date, on request, to allow commenters additional time to analyze the proposed rule and prepare a response.

DATES: The comment period for the NPRM published on January 25, 2024, at 89 FR 4841, is extended. Comments should be received on or before May 9, 2024.

ADDRESSES: Send comments identified by docket number FAA-2024-0159 using any of the following methods:

• Federal eRulemaking Portal: Go to www.regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: Susan McCormick, Systems Standards, Product Policy Management, Policy and Standards Division, Aircraft Certification Service, Federal Aviation Administration, 26805 East 68th Ave., Denver, CO 80249-6339; telephone (206) 231-3242; email susan.mccormick@faa.gov.

SUPPLEMENTARY INFORMATION:

A. Comments Invited

The FAA invites interested persons to participate in this rulemaking by submitting written comments, data, or views. The agency also invites comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The agency may change this proposal in light of the comments it receives.

B. Confidential Business Information

Confidential Business Information (CBI) is commercial or financial information that is both customarily and actually treated as private by its owner. Under the Freedom of Information Act (FOIA), 5 U.S.C. 552, CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to the person identified in the FOR FURTHER INFORMATION CONTACT section of this document. Any commentary that the FAA receives which is not specifically designated as CBI will be placed in the public docket for this rulemaking.

C. Availability of Rulemaking Documents

An electronic copy of rulemaking documents may be obtained from the internet by—

1. Searching the Federal eRulemaking Portal at www.regulations.gov;

2. Visiting the FAA's Regulations and Policies web page at www.faa.gov/regulations_policies/; or

3. Accessing the Government Printing Office's web page at www.GovInfo.com.

Copies may also be obtained by sending a request to the Federal Aviation Administration, Office of Rulemaking, ARM-1, 800 Independence Avenue SW, Washington, DC 20591, or by calling (202) 267-9680. Commenters must identify the docket or notice number of this rulemaking.

All documents the FAA considered in developing this proposed rule, including economic analyses and technical reports, may be accessed from the internet through the Federal eRulemaking Portal referenced in item (1) above.

Background

On January 25, 2024, the FAA published a NPRM titled “Disclosure of Safety Critical Information” in the Federal Register (89 FR 4841; Notice No. 24-10). In that document, the FAA proposed the implementation of certain mandates in the Aircraft Certification, Safety, and Accountability Act of 2020 by requiring applicants for, and holders of, new and amended transport category airplane type certificates to submit, and subsequently continue to disclose, certain safety critical information to the FAA. The FAA also proposed a requirement for all applicants for type certificates, including new, amended, and supplemental type certificates, to submit a proposed certification plan to the FAA. Commenters were instructed in the NPRM to provide comments on or before March 25, 2024 (i.e., 60 days from the date of publication of the NPRM).

Since publication of the NPRM, the FAA has received a joint request from the Aerospace Industries Association (AIA) and the General Aviation Manufacturers Association (GAMA) to extend the comment period by an additional ninety (90) days. These organizations requested more time to review the proposed rule, develop comments and recommendations, and coordinate those comments among their stakeholders which include a broad range of manufacturers.¹

¹ The request is in the docket.

Extension of Comment Period

The FAA has reviewed, and partially grants, the request for an extension of the comment period. The FAA recognizes the importance of the proposed rule, and that an extension would help commenters craft complete and thoughtful responses. However, the FAA finds that an additional forty-five (45) days will provide sufficient opportunity to review the NPRM and provide comments.

Accordingly, the comment period for Notice No. 24-10 is extended by forty-five (45) days and will now close on May 9, 2024.

This will provide the public with a total of one hundred and five (105) days to conduct its review and submit comments to the docket. The FAA does not intend to approve additional requests to further extend the comment period for this rulemaking.

Issued under authority provided by 5 U.S.C. 553(c), and 49 U.S.C. 106(f) and 44701, in Washington, DC.

Brandon Roberts,
Executive Director, Office of Rulemaking.

[FR Doc. 2024-05400 Filed 3-13-24; 8:45 am]

BILLING CODE 4910-13-P